FEDERAL COMMUNICATIONS COMMISSION

Notice of Public Information Collection(s) Being Reviewed by the Federal Communications Commission for Extension Under Delegated Authority, Comments Requested

November 7, 2007.

SUMMARY: The Federal Communications Commission, as part of its continuing effort to reduce paperwork burden, invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 14, 2008. If you anticipate that you will be submitting comments, but find it difficult to do so within the period of time allowed by this notice, you should advise the contact listed below as soon as possible.

ADDRESSES: You may submit all PRA comments by e-mail or U.S. mail. To submit your comments by e-mail, send them to PRA@fcc.gov. To submit your comments by U.S. mail, send them to Leslie F. Smith, Federal Communications Commission, Room 1-C216, 445 12th Street, SW., Washington, DC 20554.

FOR FURTHER INFORMATION CONTACT: For additional information about the information collection(s), contact Leslie F. Smith via e-mail at PRA@fcc.gov or call (202) 418-0217.

SUPPLEMENTARY INFORMATION: OMB Control Number: 3060-0384.

Title: Sections 64.904 and 64.905, Auditor's Attestation and Certification.

Form Number: N/A.

Type of Review: Extension of a currently approved collection.

Respondents: Business or other for-profit entities.

Number of Respondents: 13 respondents.

Estimated Time per Response: 35-250 hours.

Obligation to Respond: Required to obtain or retain benefits.

Frequency of Response: On-occasion, biennial, and annual reporting requirements.

Total Annual Burden: 1,535 hours.

Total Annual Cost: $1,200,000.

Privacy Act Impact Assessment: No impacts.

Nature of Extent of Confidentiality: This collection does not address information of a confidential nature.

Needs and Uses: 47 CFR 64.904(a) requires each incumbent LEC required to file a cost allocation manual is required to either have an attest engagement or have a financial audit performed by an independent auditor biennially. Mid-sized carriers are required to file a certification with the Commission stating that they are in compliance with 47 CFR 64.905. The requirements are imposed to ensure that the carriers are properly complying with Commission rules. They serve as an important aid in the Commission's monitoring program.

OMB Control Number: 3060-0470.

Title: Sections 64.901-64.903, Allocation of Cost, Cost Allocation Manual, and RAO Letters 19 and 26.

Form Number: N/A.

Type of Review: Extension of a currently approved collection.

Respondents: Business or other for-profit entities.

Number of Respondents: 6 respondents.

Estimated Time per Response: 400 hours (avg.).

Frequency of Response: On-occasion and annual reporting requirements.

Obligation to Respond: Required to obtain or retain benefits.

Total Annual Burden: 2,400 hours.

Total Annual Cost: $0.00.

Privacy Act Impact Assessment: No impacts.

Nature and Extent of Confidentiality: This collection does not address information of a confidential nature.

Needs and Uses: 47 CFR 64.901 requires carriers to separate their regulated costs from nonregulated costs using the attributable cost method of cost allocation. Carriers must follow the principles described in § 64.901. Carriers subject to Section 64.901 are also subject to the provisions of 47 CFR 32.23 and 32.27. 47 CFR 64.903(a) requires LECs with annual operating revenues equal to or above the indexed revenue threshold as defined in 47 CFR 32.9000 to file a cost allocation manual containing the information specified in § 64.903(a)(1)-(6). Section 64.903(b) requires that carriers update their cost allocation manuals at least annually, except changes to the cost apportionment table and the description of time reporting procedures must be filed at time of implementation. The FCC uses the manual to ensure that all costs are properly classified.

OMB Control Number: 3060-0814.

Title: Section 54.301, Local Switching Support and Local Switching Support Data Collection Form and Instructions.

Form Number: N/A.

Type of Review: Extension of a currently approved collection.

Respondents: Business or other for-profit entities.

Number of Respondents: 152 respondents.

Estimated Time per Response: 0.5-24 hours.

Frequency of Response: Annual and on occasion reporting requirements; third party disclosure.

Obligation to Respond: Required to obtain or retain benefits.

Total Annual Burden: 2,967 hours.

Total Annual Cost: $0.00.

Privacy Act Impact Assessment: No impacts.

Nature of Extent of Confidentiality: This collection does not address information of a confidential nature.

Needs and Uses: Pursuant to 47 CFR 54.301, each incumbent local exchange carrier that is not a member of the NECA common line tariff, that has been designated an eligible telecommunications carrier, and that services a study area with 50,000 or fewer access lines shall, for each study area, provide the Administrator with the projected total un-separated dollar amount assigned to each account in § 54.301(b). Average schedule companies are required to file information pursuant to § 54.301(f). Both respondents must provide true-up data. The data are necessary to calculate certain revenue requirements.

Federal Communications Commission.
Marlene H. Dortch,
Secretary.

[FR Doc. E7-22339 Filed 11-14-07; 8:45 am]

BILLING CODE 6712-01-P